DEPARTMENT OF THE TREASURY

Submission for OMB Review; Comment Request

July 6, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 11, 2006 to be assured of consideration.

Internal Revenue Service (IRS)

OMB Number: 1545-1520.

Type of Review: Extension.

Title: Revenue Procedure 2003-4 (Letter Rulings), Revenue Procedure 2003-5 (Technical Advice), Revenue Procedure 2003-6, and Revenue Procedure 2003-8 (User Fees).

Description: The information requested in Revenue Procedure 2003-4, Revenue Procedure 2003-6, and Revenue Procedure 2003-8 is required to enable the Office of the Division Commissioner (Tax Exempt and Government Entities) of the Internal Revenue Service to give advice on filing, letter ruling, determination letter, and technical advice requests, to process such requests, and to determine the amount of any user fees.

Respondents: Business or other for-profit, individuals and households, not-for-profit institutions, state, local or tribal governments, and farms.

Estimated Total Burden Hours: 117,986 hours.

OMB Number: 1545-0745.

Type of Review: Extension.

Title: LR-27-83 (Temporary) Floor Stocks or Refunds and Consumer Credits or Refunds With Respect to Certain Tax-Repealed Articles; Excise Tax on Heavy Trucks; LR-54-85 (Temporary) Excise Tax on Heavy trucks, Heavy Trailers and Semitrailers, and Tractors; Reporting and Recordkeeping Requirements.

Description: LR-27-83 requires sellers of trucks, trailers and semitrailers, and tractors to maintain records of the gross vehicle weights of articles sold to verify taxability. LR-54-85 requires that if the sale is to be treated as exempt, the seller and the purchaser must be registered and the purchaser must give the seller a resale certificate.

Respondents: Business or other for-profit.

Estimated Total Burden Hours: 4,140 hours.

OMB Number: 1545-1438.

Type of Review: Extension.

Title: CO-8-91 (Final) Distributions of Stock and Stock Rights.

Description: The requested information is required to notify the Service that a holder of preferred stock callable at a premium by the issuer has made a determination regarding the likelihood of exercise of the right to call that is different from the issuer's determination.

Respondents: Business or other for-profit, individuals or households.

Estimated Total Burden Hours: 333 hours.

OMB Number: 1545-1059.

Type of Review: Extension.

Title: Form 7018—Employer's Order Blank for Forms; Form 7018-A—Employer's Order Blank for 2003 Forms.

Form: Forms 7018 and 7018-A.

Description: Forms 7018 and 7018-A allow taxpayers who must file information returns a systematic way to order information tax forms material.

Respondents: Business or other for-profit.

Estimated Total Burden Hours: 83,400 hours.

Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-10937 Filed 7-11-06; 8:45 am]

BILLING CODE 4830-01-P